SECURITIES AND EXCHANGE COMMISSION

Sunshine Act Meetings

FEDERAL REGISTER CITATION OF PREVIOUS ANNOUNCEMENT: 87 FR 77648, December 19, 2022.

PREVIOUSLY ANNOUNCED TIME AND DATE OF THE MEETING: Monday, December 19, 2022 at 4:00 p.m.

CHANGES IN THE MEETING: The Closed Meeting scheduled for Monday, December 19, 2022 at 4:00 p.m., has been cancelled.

CONTACT PERSON FOR MORE INFORMATION: For further information and to ascertain what, if any, matters have been added, deleted or postponed, please contact the Office of the Secretary at (202) 551-5400.

Authority: 5 U.S.C. 552b.

Dated: December 19, 2022.
Vanessa A. Countryman,
Secretary.

[FR Doc. 2022-27921 Filed 12-20-22; 8:45 am]

BILLING CODE 8011-01-P